DEPARTMENT OF HEALTH AND HUMAN SERVICES

National Institutes of Health

National Institute of Neurological Disorders and Stroke; Amended Notice of Meeting

Notice is hereby given of a change in the meeting of the Neurological Sciences and Disorders C, June 22, 2006, 8 a.m. to June 23, 2006, 5 p.m., Latham Hotel, 3000 M Street, NW., Washington, DC 20007 which was published in the Federal Register on May 3, 2006, 71 FR 26104.

This meeting was scheduled for June 22-23, 2006 and has been changed to a one day meeting on June 23, 2006; 8 a.m. to 5 p.m. The meeting is closed to the public.

Dated: June 8, 2006.
Anna Snouffer,
Acting Director, Office of Federal Advisory Committee Policy.

[FR Doc. 06-5482 Filed 6-15-06; 8:45 am]

BILLING CODE 4140-01-M